DEPARTMENT OF TRANSPORTATION

Federal Aviation Administration

14 CFR Part 39

[Docket No. 2001-NM-111-AD; Amendment 39-13574; AD 2004-08-05]

RIN 2120-AA64

Airworthiness Directives; Airbus Model A300 B2 Series Airplanes; A300 B4 Series Airplanes; A300 B4-600, B4-600R, F4-600R, and C4-605R Variant F (Collectively Called A300-600) Series Airplanes; and A310 Series Airplanes

AGENCY: Federal Aviation Administration, DOT.

ACTION: Final rule.

SUMMARY: This amendment supersedes an existing airworthiness directive (AD), applicable to certain Airbus Model A300 series airplanes, that currently requires either a one-time ultrasonic inspection, or repetitive visual inspections and eventual ultrasonic inspection, to detect cracking of the longitudinal skin splice above the mid-passenger door panels, and corrective actions if necessary. This amendment requires repetitive ultrasonic inspections to detect cracking of certain skin lap joints in additional areas of the fuselage and repair if necessary. This amendment also expands the applicability of the existing AD to include additional airplanes. The actions specified by this AD are intended to detect and correct cracking of certain skin lap joints, which could result in reduced structural integrity and decompression of the airplane. This action is intended to address the identified unsafe condition.

DATES: Effective May 26, 2004.

The incorporation by reference of certain publications, as listed in the regulations, is approved by the Director of the Federal Register as of May 26, 2004.

The incorporation by reference of a certain other publication, as listed in the regulations, was approved previously by the Director of the Federal Register as of February 22, 2000 (65 FR 5756, February 7, 2000).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Anthony Jopling, Aerospace Engineer, International Branch, ANM-116, FAA, Transport Airplane Directorate, 1601 Lind Avenue, SW., Renton, Washington 98055-4056; telephone (425) 227-2190; fax (425) 227-1149.

SUPPLEMENTARY INFORMATION: A proposal to amend part 39 of the Federal Aviation Regulations (14 CFR part 39) by superseding AD 2000-02-39, amendment 39-11557 (65 FR 5756, February 7, 2000), which is applicable to certain Airbus Model A300 series airplanes, was published in the Federal Register on December 18, 2003 (68 FR 70464). The action proposed to continue to require either a one-time ultrasonic inspection, or repetitive visual inspections and eventual ultrasonic inspection, to detect cracking of the longitudinal skin splice above the mid-passenger door panels, and corrective actions if necessary. The action also proposed to require repetitive ultrasonic inspections to detect cracking of certain skin lap joints in additional areas of the fuselage and repair if necessary. In addition, the action proposed to expand the applicability of the existing AD to include additional airplanes.

Comments

Interested persons have been afforded an opportunity to participate in the making of this amendment. Due consideration has been given to the comment received.

Request To Reference Latest Service Information

The commenter requests that the proposed AD be revised to reference Revision 03, dated February 25, 2003, of Airbus Service Bulletin A300-53-6129 (for Model A300-600 series airplanes); and Revision 01, dated February 25, 2003, of Airbus Service Bulletin A310-53-2112 (for Model A310 series airplanes); for accomplishment of the applicable actions specified in the proposed AD. The commenter states that, because the repair kits have been identified with these latest revisions, adding them to the AD will eliminate requests for alternative methods of compliance in order to accomplish the latest kit installation.

The FAA concurs with the commenter's request. We have reviewed Airbus Service Bulletin A300-53-6129, Revision 03, dated February 25, 2003; and Airbus Service Bulletin A310-53-2112, Revision 01, dated February 25, 2003; and find them to be acceptable methods of compliance for accomplishment of the actions required by this AD. The final rule has been revised to require accomplishment of the applicable actions per either Revision 02 (which was referenced in the proposed AD as the applicable source of service information for the applicable actions) or Revision 03 of Airbus Service Bulletin A300-53-6129 (for Model A300-600 series airplanes); or the original issue (which was referenced in the proposed AD as the applicable source of service information for the applicable actions) or Revision 01 of Airbus Service Bulletin A310-53-2112 (for Model A310 series airplanes).

Conclusion

After careful review of the available data, including the comment noted above, the FAA has determined that air safety and the public interest require the adoption of the rule with the changes previously described. The FAA has determined that these changes will neither increase the economic burden on any operator nor increase the scope of the AD.

Cost Impact

There are approximately 128 airplanes of U.S. registry that will be affected by this AD.

The ultrasonic inspection that is currently required by AD 2000-02-39 takes approximately 4 work hours per airplane to accomplish, at an average labor rate of $65 per work hour. Based on these figures, the cost impact of the currently required actions is estimated to be $260 per airplane.

The detailed inspection that is currently required by AD 2000-02-39 takes approximately 2 work hours per airplane to accomplish, at an average labor rate of $65 per work hour. Based on these figures, the cost impact of the currently required actions is estimated to be $130 per airplane.

The ultrasonic inspection required in this AD action will take approximately 1 work hour per airplane to accomplish, at an average labor rate of $65 per work hour. Based on these figures, the cost impact of this inspection on U.S. operators is estimated to be $8,320, or $65 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11557 (65 FR 5756, February 7, 2000), and by adding a new airworthiness directive (AD), amendment 39-13574, to read as follows:

2004-08-05 Airbus: Amendment 39-13574. Docket 2001-NM-111-AD. Supersedes AD 2000-02-39, Amendment 39-11557.

Applicability: Model A300 B2 series airplanes; A300 B4 series airplanes; A300 B4-600, B4-600R, F4-600R, and C4-605R Variant F (collectively called A300-600) series airplanes; and A310 series airplanes; certificated in any category.

Compliance: Required as indicated, unless accomplished previously.

To detect and correct cracking of certain skin lap joints, which could result in reduced structural integrity and decompression of the airplane, accomplish the following:

Restatement of Certain Requirements of AD 2000-02-39

Ultrasonic or Detailed Visual Inspection

(a) For Model A300 series airplanes having serial numbers (S/N) 0003 through 0156 inclusive: Within 14 days after January 31, 2000 (the effective date of AD 2000-02-39, amendment 39-11557), accomplish the requirements of either paragraph (a)(1) or (a)(2) of this AD, in accordance with Airbus All Operators Telex (AOT) A300-53A0352, dated January 4, 2000.

(1) Perform a one-time ultrasonic inspection to detect cracking of the longitudinal skin splice above the mid-passenger door panels below stringer 11 (left- and right-hand) and between frames 28A and 30A.

(i) If no cracking is detected: No further action is required by this paragraph.

(ii) If any cracking is detected: Before further flight, accomplish the requirements of paragraph (b) of this AD.

(2) Perform a detailed inspection to detect cracking of the longitudinal skin splice above the mid-passenger door panels below stringer 11 (left- and right-hand) and between frames 28A and 30A.

Note 1: For the purposes of this AD, a detailed inspection is defined as: “An intensive visual examination of a specific structural area, system, installation, or assembly to detect damage, failure, or irregularity. Available lighting is normally supplemented with a direct source of good lighting at intensity deemed appropriate by the inspector. Inspection aids such as mirrors, magnifying lenses, etc., may be used. Surface cleaning and elaborate access procedures may be required.”

(i) If no cracking is detected: Accomplish the requirements of paragraphs (a)(2)(i)(A) and (a)(2)(i)(B) of this AD.

(A) Repeat the detailed inspection thereafter at intervals not to exceed 80 flight cycles; and

(B) Within 90 days after January 31, 2000: Accomplish the requirements of paragraph (a)(1) of this AD.

(ii) If any cracking is detected: Before further flight, accomplish the requirements of paragraph (b) of this AD.

Corrective Actions

(b) For airplanes on which any cracking is detected during any inspection required by paragraph (a)(1) or (a)(2) of this AD: Before further flight, install either a temporary or final repair, in accordance with Airbus AOT A300-53A0352, dated January 4, 2000.

(1) If a temporary repair is installed: Prior to the accumulation of 2,000 flight cycles after the installation of the temporary repair, install the final repair.

(2) If a final repair is installed: No further action is required by paragraphs (a) and (b) of this AD.

New Requirements of This AD

Inspections and Corrective Actions: Model A300 B2 and B4 Series Airplanes

(c) For Model A300 B2 and A300 B4 series airplanes with S/Ns 0003 through 0305 inclusive: From the airplane interior, do an ultrasonic inspection to detect cracking of the skin lap joint located above the mid-passenger door panel below stringer 11, between frames 28A and 31, on the left and right sides of the airplane, as applicable, per the Accomplishment Instructions of Airbus Service Bulletin A300-53-0354, Revision 02, dated December 13, 2001. Do the inspection at the times specified in paragraph (c)(1) or (c)(2) of this AD, as applicable. Accomplishment of this inspection terminates the repetitive inspections required by paragraph (a)(2)(i)(A) of this AD.

(1) For airplanes with S/Ns 0003 through 0156 inclusive, except those airplanes on which the final repair in AOT A300-53A0352, dated January 4, 2000; or Airbus Service Bulletin A300-53-0354, Revision 02, dated December 13, 2001, has been accomplished: Do the inspection within 2,500 flight cycles after the inspection per paragraph (a) of this AD, or within 14 days after the effective date of this AD, whichever occurs later. If no cracking is detected, repeat the inspection thereafter at intervals not to exceed 2,500 flight cycles.

(2) For airplanes with S/Ns 0157 through 0305 inclusive, except those airplanes on which the final repair in Airbus Service Bulletin A300-53-0354, Revision 02, dated December 13, 2001, has been accomplished: Do the initial inspection at the applicable time specified in paragraph (c)(2)(i) or (c)(2)(ii) of this AD. If no cracking is detected, repeat the inspection thereafter at intervals not to exceed 6,500 flight cycles.

(i) For airplanes with less than 20,500 flight cycles as of the effective date of this AD: Inspect before the accumulation of 20,500 total flight cycles or within 19 months after the effective date of this AD, whichever occurs later.

(ii) For airplanes with 20,500 total flight cycles or more, but less than 26,500 total flight cycles as of the effective date of this AD: Inspect within 500 flight cycles after the effective date of this AD.

(d) Accomplishment of the actions specified in Airbus Service Bulletin A300-53-0354, Revision 01, dated December 26, 2000, before the effective date of this AD, is considered acceptable for compliance with the requirements of paragraph (c) of this AD.

(e) If any cracking is detected during any inspection per paragraph (c) of this AD: Do paragraphs (e)(1) and (e)(2) of this AD, as applicable.

(1) If any crack is detected in Area A as defined in Figure 1 of Airbus Service Bulletin A300-53-0354, Revision 02, dated December 13, 2001: Before further flight, repair per a method approved by either the Manager, International Branch, ANM-116, Transport Airplane Directorate, FAA, or the Direction Générale de l'Aviation Civile (DGAC) (or its delegated agent).

(2) If any crack is detected in Area B as defined in Figure 1 of Airbus Service Bulletin A300-53-0354, Revision 02, dated December 13, 2001: Before further fight, do a temporary repair or final repair, as applicable, per the Accomplishment Instructions of the service bulletin.

(f) For Model A300 B2 and A300 B4 series airplanes with S/Ns 0003 through 0305 inclusive which have been repaired per paragraph (d)(2) of this AD: Do paragraph (f)(1) or (f)(2) of this AD, as applicable.

(1) If a temporary repair has been accomplished: Within 2,000 flight cycles after doing the temporary repair, do the final repair per the Accomplishment Instructions of Airbus Service Bulletin A300-53-0354, Revision 02, dated December 13, 2001.

(2) If a final repair has been accomplished: Perform repetitive inspections per a method and at intervals approved by either the Manager, International Branch, ANM-116, Transport Airplane Directorate, FAA, or the DGAC (or its delegated agent).

(g) For Model A300 B2 and A300 B4 series airplanes, except those airplanes with Airbus Modification 2611 accomplished in production: Prior to the accumulation of 30,300 total flight cycles, or within 19 months after the effective date of this AD, whichever occurs later, do the inspections in paragraphs (g)(1) and (g)(2) of this AD.

(1) From the airplane interior: Do an ultrasonic inspection to detect cracking of the skin lap joint located below the mid-passenger door panel, below stringer 27, between frames 28A and 30A, on the left and right sides of the airplane, as applicable, per the Accomplishment Instructions of Airbus Service Bulletin A300-53-0356, dated December 26, 2000.

(i) If no cracking is detected: Repeat the inspection required by paragraph (g)(1) of this AD thereafter at intervals not to exceed 4,100 flight cycles.

(ii) If any cracking is detected in area A as defined in Figure 1 of Airbus Service Bulletin A300-53-0356: Before further flight, repair the affected area per a method approved by either the Manager, International Branch, ANM-116, or the DGAC (or its delegated agent). Upon completion of the repair, do repetitive inspections of the affected area per a method and at intervals approved by one of the airworthiness authorities listed above.

(2) Do an external ultrasonic inspection to detect cracking of the skin lap joint located in the lower fuselage, aft of the wing, below the mid-passenger door panel, below stringer 52, between frames 56 and 58, on the left and right sides of the airplane, as applicable, per the Accomplishment Instructions of Airbus Service Bulletin A300-53-0356, dated December 26, 2000. If an internal or external repair doubler approved by the FAA or the DGAC (or its delegated agent), of Airbus design origin, has been installed in this area, the doubler does not need to be removed for inspection of this area.

(i) If no cracking is detected: Repeat the inspection required by paragraph (g)(2) of this AD thereafter at intervals not to exceed 4,100 flight cycles.

(ii) If any cracking is detected in Area B as defined in Figure 1 of Airbus Service Bulletin A300-53-0356: Before further flight, do a final repair per the Accomplishment Instructions of Airbus Service Bulletin A300-53-0356.

(h) For Model A300 B2 and A300 B4 series airplanes, except those on which Airbus Service Bulletin A300-53-0209 has been accomplished: From the airplane interior, do an ultrasonic inspection to detect cracking of the skin lap joint located below the aft-passenger door panel, below stringer 28, between frames 72 and 76 on the left and right sides of the airplane, as applicable, per the Accomplishment Instructions of Airbus Service Bulletin A300-53-0357, dated December 26, 2000. If an internal or external repair doubler is installed in this area, inspection of this area is not required. Perform the inspection at the later of the times specified in paragraphs (h)(1) and (h)(2) of this AD.

(1) Prior to the accumulation of 24,100 total flight cycles for S/Ns 0003 through 0156 inclusive, or 29,500 total flight cycles for S/Ns 0157 through 0305 inclusive.

(2) Within 2,000 flight cycles or 19 months after the effective date of this AD, whichever occurs first.

(i) If no cracking is detected during the inspection required by paragraph (h) of this AD: Repeat the inspection required by paragraph (h) of this AD at the intervals specified in paragraphs (i)(1) and (i)(2) of this AD, as applicable.

(1) For Model A300 B2 and A300 B4 series airplanes with S/Ns 0003 through 0156 inclusive: Repeat the inspection thereafter at intervals not to exceed 3,400 flight cycles.

(2) For Model A300 B2 and A300 B4 series airplanes with S/Ns 0157 through 0305 inclusive: Repeat the inspection thereafter at intervals not to exceed 5,400 flight cycles.

(j) For all Model A300 B2 and A300 B4 series airplanes; if any cracking is detected during the inspection required by paragraph (h) of this AD: Before further flight, repair the affected area, per a method approved by either the Manager, International Branch, ANM-116, or the DGAC (or its delegated agent).

Inspections and Corrective Actions: Model A310 Series Airplanes

(k) For Model A310 series airplanes; prior to the accumulation of 29,500 total flight cycles, or within 19 months after the effective date of this AD, whichever occurs later: From the airplane interior, do an ultrasonic inspection to detect cracking of the skin lap joint located below the aft-passenger door panel, below stringer 28, between frame 72 and frame 76, on the right and left sides of the airplane, as applicable, per the Accomplishment Instructions of Airbus Service Bulletin A310-53-2112, dated December 26, 2000; or Airbus Service Bulletin A310-53-2112, Revision 01, dated February 25, 2003. If an internal or external repair doubler is installed in any inspection area, inspection of that specific area is not required.

(1) If no cracking is detected: Repeat the inspection thereafter at intervals not to exceed 5,400 flight cycles.

(2) If any cracking is detected: Before further flight, repair the affected area, per a method and at repetitive intervals approved by either the Manager, International Branch, ANM-116, or the DGAC (or its delegated agent).

Inspections and Corrective Actions: Model A300-600 Series Airplanes

(l) For Model A300-600 series airplanes: From the airplane interior, do an ultrasonic inspection to detect cracking of the skin lap joint located above the mid-passenger door panel, below stringer 11, between frames 28A and 31, on the right and left sides of the airplane, as applicable, per the Accomplishment Instructions of Airbus Service Bulletin A300-53-6129, Revision 02, dated December 13, 2001; or Airbus Service Bulletin A300-53-6129, Revision 03, dated February 25, 2003. Do the inspection at the applicable time specified in paragraph (l)(1), (l)(2), or (l)(3) of this AD. If no cracking is detected, repeat the inspection thereafter at intervals not to exceed 6,500 flight cycles.

(1) For airplanes with less than 20,500 flight cycles as of the effective date of this AD: Inspect before the accumulation of 20,500 total flight cycles or within 19 months after the effective date of this AD, whichever occurs later.

(2) For airplanes with 20,500 total flight cycles or more, but less than 26,500 total flight cycles as of the effective date of this AD: Inspect within 500 flight cycles after the effective date of this AD.

(3) For airplanes with 26,500 total flight cycles or more as of the effective date of this AD: Inspect within 200 flight cycles or 30 days after the effective date of this AD, whichever occurs later.

(m) If any cracking is detected during any inspection per paragraph (l) of this AD: Do paragraphs (m)(1) and (m)(2) of this AD, as applicable.

(1) If any crack is detected in Area A as defined in Figure 1 of Airbus Service Bulletin A300-53-6129, Revision 02, dated December 13, 2001; or Revision 03, dated February 25, 2003: Before further flight, repair per a method approved by either the Manager, International Branch, ANM-116, or the DGAC (or its delegated agent).

(2) If any crack is detected in Area B as defined in Figure 1 of Airbus Service Bulletin A300-53-6129, Revision 02, dated December 13, 2001; or Revision 03, dated February 25, 2003: Before further fight, do a temporary repair or final repair, as applicable, per the Accomplishment Instructions of Airbus Service Bulletin A300-53-6129, Revision 02, dated December 13, 2001; or Revision 03, dated February 25, 2003.

(n) For airplanes which have been repaired per paragraph (m)(2) of this AD: Do paragraph (n)(1) or (n)(2) of this AD, as applicable.

(1) If a temporary repair has been accomplished: Within 2,000 flight cycles after doing the temporary repair, do the final repair per the Accomplishment Instructions of Airbus Service Bulletin A300-53-6129, Revision 02, dated December 13, 2001; or Airbus Service Bulletin A300-53-6129, Revision 03, dated February 25, 2003.

(2) If a final repair has been accomplished: Perform repetitive inspections per a method and at intervals approved by either the Manager, International Branch, ANM-116, or the DGAC (or its delegated agent).

Credit for Previous Service Bulletin Revision

(o) Accomplishment of the actions specified in Airbus Service Bulletin A300-53-6129, Revision 01, dated December 26, 2000, before the effective date of this AD, is considered acceptable for compliance with the requirements of paragraph (l) of this AD.

Submission of Inspection Results to Manufacturer Not Required

(p) Although the service bulletins referenced in this AD specify to submit information to the manufacturer, this AD does not include such a requirement.

Alternative Methods of Compliance

(q)(1) In accordance with 14 CFR 39.19, the Manager, International Branch, ANM-116, is authorized to approve alternative methods of compliance for this AD.

(2) Alternative methods of compliance, approved previously in accordance with AD 2000-02-39, amendment 39-11557, are approved as alternative methods of compliance with the applicable actions in this AD.

Incorporation by Reference

(r) Unless otherwise specified in this AD, the actions shall be done in accordance with the Airbus documents listed in Table 1 of this AD, as applicable:

Table 1.—Service Documents Incorporated by Reference
Airbus document number | Revision level | Date
All Operators Telex A300-53A0352 | Original | January 4, 2000.
Airbus Service Bulletin A300-53-0354, excluding Appendix 01 | 02 | December 13, 2001.
Airbus Service Bulletin A300-53-0356, excluding Appendix 01 | Original | December 26, 2000.
Airbus Service Bulletin A300-53-0357, excluding Appendix 01 | Original | December 26, 2000.
Airbus Service Bulletin A310-53-2112, excluding Appendix 01 | Original | December 26, 2000.
Airbus Service Bulletin A310-53-2112, excluding Appendix 01 | 01 | February 25, 2003.
Airbus Service Bulletin A300-53-6129, excluding Appendix 01 | 02 | December 13, 2001.
Airbus Service Bulletin A300-53-6129, excluding Appendix 01 | 03 | February 25, 2003.

(1) The incorporation by reference of the Airbus documents listed in Table 2 of this AD is approved by the Director of the Federal Register in accordance with 5 U.S.C. 552(a) and 1 CFR part 51:

Table 2.—New Service Documents Incorporated by Reference
Airbus document | Revision level | Date
Airbus Service Bulletin A300-53-0354, excluding Appendix 01 | 02 | December 13, 2001.
Airbus Service Bulletin A300-53-0356, excluding Appendix 01 | Original | December 26, 2000.
Airbus Service Bulletin A300-53-0357, excluding Appendix 01 | Original | December 26, 2000.
Airbus Service Bulletin A310-53-2112, excluding Appendix 01 | Original | December 26, 2000.
Airbus Service Bulletin A310-53-2112, excluding Appendix 01 | 01 | February 25, 2003.
Airbus Service Bulletin A300-53-6129, excluding Appendix 01 | 02 | December 13, 2001.
Airbus Service Bulletin A300-53-6129, excluding Appendix 01 | 03 | February 25, 2003.

(2) The incorporation by reference of All Operators Telex A300-53A0352, dated January 4, 2000, was approved previously by the Director of the Federal Register as of February 22, 2000 (65 FR 5756, February 7, 2000).

(3) Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 2: The subject of this AD is addressed in French airworthiness directive 2002-639(B), dated December 24, 2002.

Effective Date

(s) This amendment becomes effective on May 26, 2004.

Issued in Renton, Washington, on April 6, 2004.
Kevin M. Mullin,
Acting Manager, Transport Airplane Directorate, Aircraft Certification Service.

[FR Doc. 04-8540 Filed 4-20-04; 8:45 am]

BILLING CODE 4910-13-P